DEPARTMENT OF LABOR

Agency Information Collection Activities; Submission for OMB Review; Application for Use of Public Space by Non-DOL Agencies in the Frances Perkins Building

ACTION: Notice of availability; request for comments.

SUMMARY: The Department of Labor (DOL) is submitting this the Office of the Assistant Secretary for Administration and Management (OASAM)-sponsored information collection request (ICR) to the Office of Management and Budget (OMB) for review and approval in accordance with the Paperwork Reduction Act of 1995 (PRA). Public comments on the ICR are invited.

DATES: The OMB will consider all written comments that the agency receives on or before September 13, 2023.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: Consistent with 40 U.S.C. 581(h)(2), Federal Management Regulation (FMR) part 102, Public Law 102-74, subpart D, and the GSA Delegation under which the Department of Labor (DOL) operates the Frances Perkins Building (FPB), DOL allows the use of public space within the FPB for non-commercial purposes. As provided by FMR 102-74, subpart D, (41 CFR 102-74-460) any person or entity that wishes to use public space in a Federal building is required to submit an application for a permit. To capture the nature of the request, information such as the requester, description of event, date, time, and approvals are collected in order to review the appropriateness of the request and make a determination of the availability of the requested public space. DOL experience shows that the agency receives fewer than 10 non-DOL Agency requests to use FPB public space in any given year; however, as the information is contained in a rule of general applicability, the information collection is deemed to involve 10 or more persons. See 5 CFR 1320.3(c)(4)(ii). DOL, consequently, must maintain PRA authority to conduct this information collection. For additional substantive information about this ICR, see the related notice published in the Federal Register on June 7, 2023 (88 FR 37280).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Type of Review: Extension.

Agency: DOL—OASAM.

Title of Collection: Application for Use of Public Space by Non-DOL Agencies in the Frances Perkins Building.

OMB Number: 1225-0087.

Affected Public: Private Sector, not-for-profit institutions.

Number of Respondents: 10.

Number of Responses: 10.

Annual Burden Hours: 1 hour.

Annual Respondent or Recordkeeper Cost: $0.

(Authority: 44 U.S.C. 3507(a)(1)(D))

Nicole Bouchet,
Acting Departmental Clearance Officer.

[FR Doc. 2023-17325 Filed 8-11-23; 8:45 am]

BILLING CODE 4510-04-P